DEPARTMENT OF STATE

[Delegation of Authority: 438]

Delegation of Authority: Nuclear Non-Proliferation Act and Atomic Energy Act

By virtue of the authority vested in the Secretary of State by the laws of the United States, including by 22 U.S.C. 2651a, I hereby delegate to the Assistant Secretary for International Security and Nonproliferation, to the extent authorized by law, the following functions conferred upon the Secretary by the Nuclear Non-Proliferation Act of 1978, Public Law 95-242 (hereinafter referred to as the “Act”), and the Atomic Energy Act of 1954, Public Law 83-703, as amended (hereinafter referred to as “the Atomic Energy Act”):

(1) Those under section 102, 402 (a), 502(c), 602(c) of the Act;

(2) Those under sections 57(b)(2), 109, 111(b)(1), and 131 of the Atomic Energy Act;

(3) Those under section 126 of the Atomic Energy Act, except for the function of making recommendations to the President on functions reserved to him;

(4) Those under section 123 of the Atomic Energy Act, subject to the Department of State's Circular 175 procedure and except for the function of making recommendations to the President on functions reserved to him; and

(5) Those delegated by paragraphs (a), (b), and (c) of section 2 of Executive Order 12058 of May 11, 1978, provided that the negotiation and conclusion of international agreements shall remain subject to the Department of State Circular 175 procedure.

Any act, executive order, regulation, or procedure subject to, or affected by, this delegation shall be deemed to be such act, executive order, regulation, or procedure as amended from time to time.

Notwithstanding this delegation of authority, the Secretary, the Deputy Secretary, and the Under Secretary for Arms Control and International Security may at any time exercise any authority or function delegated by this delegation of authority. Delegation of Authority Nos. 140, 140-1, 140-2, 140-3, 140-4, and 140-5 are hereby rescinded.

This delegation of authority shall be published in the Federal Register.

Rex W. Tillerson,
Secretary of State.

[FR Doc. 2017-21357 Filed 10-3-17; 8:45 am]

BILLING CODE 4710-10-P